DEPARTMENT OF LABOR

Employment and Training Administration

[TA-W-42,095]

K.T. Mold & Manufacturing, Inc., Woodstock, IL; Dismissal of Application for Reconsideration

Pursuant to 29 CFR 90.18(C) an application for administrative reconsideration was filed with the Director of the Division of Trade Adjustment Assistance for workers at K.T. Mold & Manufacturing, Inc., Woodstock, Illinois. The application contained no new substantial information which would bear importantly on the Department's determination. Therefore, dismissal of the application was issued.

TA-W-42,095; K.T. Mold & Manufacturing, Inc., Woodstock, Illinois (March 7, 2003).

Signed in Washington, DC this 12th day of March, 2003.
Edward A. Tomchick,
Director, Division of Trade Adjustment Assistance.

[FR Doc. 03-6563 Filed 3-18-03; 8:45 am]

BILLING CODE 4510-30-M